DEPARTMENT OF TRANSPORTATION

Federal Aviation Administration

14 CFR Part 71

[Docket FAA 2003-16460; Airspace Docket 02-ANM-16]

Amendment to Class E Airspace; Wray, CO

AGENCY: Federal Aviation Administration (FAA), DOT.

ACTION: Final rule.

SUMMARY: This final rule will revise Class E airspace at Wray, CO. New Area Navigation (RNAV) Global Positioning System (GPS) Standard Instrument Approach Procedures (SIAPs) have been developed at Wray Municipal Airport. Additional Class E airspace extending upward from 700 feet above the surface is necessary for the safety of instrument flight rules (IFR) aircraft executing these new SIAPs and transitioning between the terminal and en route environment.

DATES: 0901 UTC May 12, 2005.

FOR FURTHER INFORMATION CONTACT: Ed Haeseker, Federal Aviation Administration, Air Traffic Organization, Western En Route and Oceanic Area Office, Airspace Branch, 1601 Lind Avenue, SW., Renton, WA 98055-4056; telephone (425) 227-2527.

SUPPLEMENTARY INFORMATION:

History

On October 21, 2003, the FAA published in the Federal Register a notice of proposed rule making to modify Class E airspace at Wray, CO (69 FR 32295). New RNAV GPS SIAPs at Wray Municipal Airport, Wray, CO, make it necessary to increase the controlled airspace.

Interested parties were invited to participate on this rule making proceeding by submitting written comments on the proposal to the FAA. No comments were received. Class E airspace designations are published in paragraph 6005 of FAA Order 7400.9M dated August 30, 2004, and effective September 16, 2004, which is incorporated by reference in 14 CFR part 71.1. The Class E airspace designations listed in this document will be published subsequently in that order.

The Rule

This amendment to 14 CFR part 71 revises Class E airspace at Wray Municipal Airport, Wray, CO. New RNAV GPS SIAPs at Wray Municipal Airport make it necessary to increase the Class E airspace. This additional controlled airspace extending upward from 700 feet or more above the surface of the earth is for the containment and safety of IFR aircraft transitioning to/from the en route environment and executing these RNAV GPS SIAP procedures.

The FAA has determined that this regulation only involved an established body of technical regulations for which frequent and routine amendments are necessary to keep them operationally current. Therefore, this regulation: (1) Is not a “signficant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004, is amended as follows:

Paragraph 6005. Class E Airspace area extending upward from 700 feet or more above the surface of the earth.

* * * * *

ANM CO E5 Wray, CO [Revised]

Wray Municipal Airport

(Lat. 40°06′01″N., long. 102°14′27″W.)

That airspace extending upward from 700 feet above the surface within a 6.5 mile radius of the Wray Municipal Airport; that airspace extending upward from 1,200 feet above the surface bounded by a line beginning at airway V80 and long. 102°00′00″W.; thence south via long. 102°00′00″W.; thence west via V4; thence north via V169; thence east via V80; thence to the point of origin; excluding that airspace within Federal airways.

* * * * *

Issued in Seattle, Washington on May 24, 2005.
Danial T. Mawhorter,
Acting Area Director, Western En Route and Oceanic Operations.

[FR Doc. 05-11671 Filed 6-13-05; 8:45 am]

BILLING CODE 4910-13-M